Title 3—

The President

Executive Order 14357 of November 4, 2025

Modifying Duties Addressing the Synthetic Opioid Supply Chain in the People's Republic of China

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, I hereby determine and order:

Section 1. Background. In Executive Order 14195 of February 1, 2025 (Imposing Duties To Address the Synthetic Opioid Supply Chain in the People's Republic of China), I found that the failure of the Government of the People's Republic of China (PRC) to act to blunt the sustained influx of synthetic opioids, including fentanyl, flowing from the PRC to the United States constitutes an unusual and extraordinary threat to the national security, foreign policy, and economy of the United States that has its source in substantial part outside the United States. I declared a national emergency with respect to that threat, and to deal with that threat, I imposed an additional ad valorem rate of duty of 10 percent on articles that are products of the PRC, as defined by the Federal Register notice described in section 2(d) of Executive Order 14195, as amended.

In Executive Order 14228 of March 3, 2025 (Further Amendment to Duties Addressing the Synthetic Opioid Supply Chain in the People's Republic of China), I raised from 10 percent to 20 percent the additional ad valorem rate of duty established in Executive Order 14195, as amended, in response to the PRC's failure to take adequate steps to alleviate the illicit drug crisis described in Executive Order 14195.

After discussions between the United States and the PRC, among other things, the PRC has committed to take steps to alleviate the national emergency declared in Executive Order 14195. Specifically, the PRC has committed to take significant measures to end the flow of fentanyl to the United States, including stopping the shipment of certain designated chemicals to North America and strictly controlling exports of certain other chemicals to all destinations in the world. In light of the PRC's commitment, the United States committed to, among other things, reduce the additional ad valorem rate of duty applicable under Executive Order 14195, as amended, from 20 percent to 10 percent, effective November 10, 2025.

Accordingly, I have determined that it is necessary and appropriate to deal with the national emergency declared in Executive Order 14195 by reducing the additional ad valorem rate of duty applicable under Executive Order 14195, as amended, to 10 percent, effective November 10, 2025.

Sec. 2. Implementation. (a) All articles that are subject to the additional ad valorem rate of duty of 20 percent under Executive Order 14195, as amended, shall instead be subject to an additional ad valorem rate of duty of 10 percent. Accordingly, subchapter III of chapter 99 of the Harmonized Tariff Schedule of the United States (HTSUS) shall be modified as follows:

Effective with respect to goods entered for consumption, or withdrawn from warehouse for consumption, on or after 12:01 a.m. eastern standard time on November 10, 2025:

(i) heading 9903.01.24 is amended by deleting “20%” each place that it appears and inserting “10%” in lieu thereof and by deleting “or U.S. note 2(w) to this subchapter”; and

(ii) subdivision (u) of U.S. note 2 is modified by deleting “20%” and inserting “10%” in lieu thereof and by deleting “March 4, 2025” and inserting “November 10, 2025” in lieu thereof.

(b) The Secretary of Homeland Security, in consultation with the United States International Trade Commission, shall determine whether any additional modifications to the HTSUS are necessary to effectuate this order and shall make such modifications through notice in the Federal Register.

Sec. 3. Monitoring and Recommendations. (a) The Secretary of Homeland Security, in consultation with the Secretary of State, the Secretary of the Treasury, and any other officials the Secretary of Homeland Security deems appropriate, shall continue to monitor the conditions underlying the national emergency declared in Executive Order 14195, including the status and progress of the PRC's implementation of its commitments to alleviate the national emergency declared in Executive Order 14195, and any other relevant factors. The Secretary of Homeland Security shall, from time to time, update me on the status of these conditions. Should the PRC fail to implement its commitments as described in section 1 of this order, I may modify this order as necessary to deal with the emergency declared in Executive Order 14195.

(b) The Secretary of Homeland Security, in consultation with the Secretary of State, the Attorney General, the Assistant to the President for National Security Affairs, and the Assistant to the President for Homeland Security, shall continue to inform me of any circumstance that, in their opinion, might indicate the need for further action and shall continue to recommend to me additional action that, in their opinion, will effectively deal with the emergency declared in Executive Order 14195.

Sec. 4. Delegation. Consistent with applicable law, the Secretary of Homeland Security is directed and authorized to take such actions, including adopting rules, regulations, or guidance, and to employ all powers granted to the President, including those granted by IEEPA, as may be necessary to implement and effectuate this order. The Secretary of Homeland Security, consistent with applicable law, may redelegate any of these functions within the Department of Homeland Security. All executive departments and agencies shall take all appropriate measures within their authority to implement this order.

Sec. 5. Severability. If any provision of this order, or the application of any provision of this order to any individual or circumstance, is held to be invalid, the remainder of this order and the application of its provisions to any other individuals or circumstances shall not be affected.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Homeland Security.

THE WHITE HOUSE,

November 4, 2025.

[FR Doc. 2025-19825

Filed 11-6-25; 11:15 am]

Billing code 4410-10-P